DEPARTMENT OF TRANSPORTATION

Federal Motor Carrier Safety Administration

49 CFR Part 356

[Docket No. FMCSA-2025-0105]

RIN 2126-AC79

Motor Carrier Routing Regulations

AGENCY: Federal Motor Carrier Safety Administration (FMCSA), Department of Transportation (DOT).

ACTION: Final rule.

SUMMARY: FMCSA repeals the for-hire motor carrier routing regulations which concern servicing municipalities and unincorporated communities. These regulations are unlawful because they exceed FMCSA's statutory authority following the transfer of rules from the Interstate Commerce Commission (ICC) to the Federal Highway Administration (FHWA) in 1995, which were carried over to FMCSA in 2000.

DATES: Effective May 30, 2025.

FOR FURTHER INFORMATION CONTACT: Jeff Secrist, Chief, Division of Registration, FMCSA, 1200 New Jersey Ave. SE, Washington, DC 20590, (202) 385-2367, jeff.secrist@dot.gov. If you have questions on viewing or submitting material to the docket, call Dockets Operations at (202) 366-9826.

SUPPLEMENTARY INFORMATION: FMCSA organizes this final rule as follows:

I. Availability of Rulemaking Documents

II. Abbreviations

III. Legal Basis

IV Discussion of Final Rule

V International Impacts

VI. Section-by-Section Analysis

VII. Regulatory Analyses

A. E.O. 12866 (Regulatory Planning and Review), E.O. 13563 (Improving Regulation and Regulatory Review), and DOT Regulatory Policies and Procedures

B. E.O. 14192 (Unleashing American Prosperity Through Deregulation)

C. Congressional Review Act

D. Regulatory Flexibility Act

E. Assistance for Small Entities

F. Unfunded Mandates Reform Act of 1995

G. Paperwork Reduction Act

H. E.O. 13132 (Federalism)

I. Privacy

J. E.O. 13175 (Indian Tribal Governments)

K. National Environmental Policy Act of 1969

I. Availability of Rulemaking Documents

To view any documents mentioned as being available in the docket, go to https://www.regulations.gov/docket/FMCSA-2025-0105/document and choose the document to review. To view comments, click this final rule, then click “Browse Comments.” If you do not have access to the internet, you may view the docket online by visiting Dockets Operations at U.S. Department of Transportation, 1200 New Jersey Avenue SE, Washington, DC 20590-0001, between 9 a.m. and 5 p.m., Monday through Friday, except Federal holidays. To be sure someone is there to help you, please call (202) 366-9317 or (202) 366-9826 before visiting Dockets Operations.

II. Abbreviations

ANPRM Advance notice of proposed rulemaking

APA Administrative Procedure Act

CBI Confidential Business Information

CFR Code of Federal Regulations

CMV Commercial motor vehicle

DOT Department of Transportation

FMCSRs Federal Motor Carrier Safety Regulations

FR Federal Register

ICC Interstate Commerce Commission

NEPA National Environmental Policy Act of 1969

NPRM Notice of proposed rulemaking

OMB Office of Management and Budget

PIA Privacy Impact Assessment

PTA Privacy Threshold Assessment

UMRA Unfunded Mandates Reform Act of 1995

U.S.C. United States Code

III. Legal Basis

The Motor Carrier Act of 1935 (49 Stat. 543, sections 204, 207, 208) (Motor Carrier Act) authorized the ICC to regulate motor carriers and to establish reasonable requirements with respect to adequate and continuous service, including establishing routes. The ICC prescribed the routing regulations currently contained in part 356 (see e.g., 17 FR 6560-61 (Jul. 17, 1952)). The Interstate Commerce Commission Termination Act (ICCTA) (Pub. L. 104-88, 109 Stat. 803) was enacted on December 29, 1995, and took effect on January 1, 1996. ICCTA abolished the ICC and repealed certain provisions of the Motor Carrier Act, including most provisions authorizing the government to impose limitations on the routes where a motor carrier has authority to operate. ICCTA also transferred certain functions, formerly performed by the ICC, to the Surface Transportation Board and DOT. Certain motor carrier functions previously under the jurisdiction of the ICC were transferred to the Secretary of Transportation, who subsequently delegated those functions to the Federal Highway Administration (FHWA), and eventually to FMCSA following the Motor Carrier Safety Improvement Act of 1999 (Pub. L. 106-159) (MCSIA), which established FMCSA as an agency within DOT. The transferred authorities include the authority of the Secretary, under 49 U.S.C. 13301(a), to promulgate regulations governing registration requirements for motor carriers.

The specific authority authorizing the regulations in 49 CFR part 356, formerly codified in 49 U.S.C. 10922, was repealed in ICCTA and replaced with 49 U.S.C. 13902. The result is that the regulations contained in 49 CFR part 356 no longer accurately reflect the Agency's current statutory authority for granting operating authority. Under 49 U.S.C. 13902, FMCSA is not authorized to include routing limitations when granting operating authority to U.S. domiciled motor carriers; therefore, the regulations in part 356 are unlawful and obsolete.

The Administrative Procedure Act (APA) specifically provides exceptions to its notice and comment rulemaking procedures when an agency finds there is good cause to dispense with them, and incorporates the finding, and a brief statement of reasons therefore, in the rules issued (5 U.S.C. 553(b)(B)). Good cause exists when an Agency determines that notice and public comment procedures are impractical, unnecessary, or contrary to the public interest. The amendment made in this final rule removes an unenforceable part within the FMCSRs, as it is no longer authorized by statute. Public comment cannot grant FMCSA authority which Congress has removed. Retaining regulations that are unlawful is plainly contrary to the public interest. As the President has observed, “[r]etaining and enforcing facially unlawful regulations is clearly contrary to the public interest. . . . Agencies thus have ample cause and the legal authority to immediately repeal unlawful regulations.” ¹ Furthermore, notice-and-comment proceedings are unnecessary where repeal is based purely on legal analysis. For these reasons, FMCSA finds good cause that notice and public comment on this final rule are unnecessary.

¹ Presidential Memorandum, Directing the Repeal of Unlawful Regulations (Apr. 9, 2025) available at https://www.whitehouse.gov/presidential-actions/2025/04/directing-the-repeal-of-unlawful-regulations/.

The APA also allows agencies to make rules effective immediately with good cause (5 U.S.C. 553(d)(3)), instead of requiring publication 30 days prior to the effective date. For the reason already stated, FMCSA finds there is good cause for this rule to be effective immediately.

IV. Discussion of Final Rule

As discussed in the Legal Authorities section above, Congress repealed 49 U.S.C. 10922, including most provisions authorizing the government to impose limitations on the routes where a motor carrier has authority to operate, and replaced it with 49 U.S.C. 13902. The result is that the regulations contained in 49 CFR part 356 no longer accurately reflect the Agency's current statutory authority for granting operating authority. Under 49 U.S.C. 13902, FMCSA is not authorized to include routing limitations when granting operating authority to U.S. domiciled motor carriers; therefore, the regulations in part 356 are unlawful and obsolete. FMCSA is therefore removing these regulations.

V. International Impacts

Motor carriers and drivers are subject to the laws and regulations of the countries in which they operate, unless an international agreement states otherwise. Drivers and carriers should be aware of the regulatory differences between nations.

VI. Section-by-Section Analysis

Part 356 Motor Carrier Routing Regulations

In this final rule, FMCSA removes and reserves part 356.

VII. Regulatory Analyses

A. Executive Order (E.O.) 12866 (Regulatory Planning and Review), E.O. 13563 (Improving Regulation and Regulatory Review), and DOT Regulatory Policies and Procedures

FMCSA has considered the impact of this final rule under E.O. 12866 (58 FR 51735, Oct. 4, 1993), Regulatory Planning and Review, E.O. 13563 (76 FR 3821, Jan. 21, 2011), Improving Regulation and Regulatory Review, and DOT Regulatory Policies and Procedures. The Office of Information and Regulatory Affairs within the Office of Management and Budget (OMB) determined that this final rulemaking is not a significant regulatory action under section 3(f) of E.O. 12866, as supplemented by E.O. 13563, and does not require an assessment of potential costs and benefits under section 6(a)(3) of that order. Accordingly, OMB has not reviewed it under that E.O.

This rule will remove obsolete language that is no longer relevant. FMCSA does not expect that any regulated entities will change their behavior as a result of this rule, and therefore the rule will not result in any impacts to regulated entities other than removing unnecessary language from the Code of Federal Regulations (CFR). It is expected to result in cost savings by reducing the amount of time to become familiar with the FMCSRs. FMCSA assumes any realized cost savings to be de minimis. FMCSA does not have data to estimate the reduction in costs.

B. E.O. 14192 (Unleashing Prosperity Through Deregulation)

E.O. 14192 (90 FR 9065, Jan. 31, 2025), Unleashing Prosperity Through Deregulation, requires that for “each new [E.O. 14192 regulatory action] issued, at least ten prior regulations be identified for elimination.” ²

² Executive Office of the President. Executive Order 14192 of January 31, 2025. Unleashing Prosperity Through Deregulation. 90 FR 9065-9067. Feb. 6, 2025.

Implementation guidance for E.O. 14192 issued by OMB (Memorandum M-25-20, March 26, 2025) defines two different types of E.O. 14192 actions: an E.O. 14192 deregulatory action, and an E.O. 14192 regulatory action.³

³ Executive Office of the President. Office of Management and Budget. Guidance Implementing Section 3 of Executive Order 14192, Titled “Unleashing Prosperity Through Deregulation.” Memorandum M-25-20. March 26, 2025.

An E.O. 14192 deregulatory action is defined as “an action that has been finalized and has total costs less than zero.” This final rule is projected to have total costs less than zero as it would reduce the time necessary to become familiar with the regulations and streamline the CFR, and therefore is considered an E.O. 14192 deregulatory action. The cost savings of this rulemaking are not quantifiable.

C. Congressional Review Act

This rule is not a major rule as defined under the Congressional Review Act (5 U.S.C. 801-808).” ⁴

⁴ A major rule means any rule that OMB finds has resulted in or is likely to result in (a) an annual effect on the economy of $100 million or more; (b) a major increase in costs or prices for consumers, individual industries, geographic regions, Federal, State, or local government agencies; or (c) significant adverse effects on competition, employment, investment, productivity, innovation, or on the ability of United States-based enterprises to compete with foreign-based enterprises in domestic and export markets (5 U.S.C. 804(2)).

D. Regulatory Flexibility Act

The Regulatory Flexibility Act (5 U.S.C. 601 et seq.), as amended by the Small Business Regulatory Enforcement Fairness Act of 1996,⁵ requires Federal agencies to consider the effects of the regulatory action on small business and other small entities and to minimize any significant economic impact. The term small entities comprises small businesses and not-for-profit organizations that are independently owned and operated and are not dominant in their fields, and governmental jurisdictions with populations of less than 50,000 (5 U.S.C. 601(6)). Accordingly, DOT policy requires an analysis of the impact of all regulations on small entities, and mandates that agencies strive to lessen any adverse effects on these businesses.

No regulatory flexibility analysis is required when an Agency publishes a final rule that is not required to be preceded by notice and comment (5 U.S.C. 601(2) and 603(a)). As discussed above in the Legal Authorities section, this final rule is exempt from notice and comment requirements. Additionally, a regulatory flexibility analysis is not required if the head of an Agency or an appropriate designee certifies that the rule will not have a significant economic impact on a substantial number of small entities. FMCSA has concluded and hereby certifies that this rule will not have a significant economic impact on a substantial number of small entities; therefore, an analysis is not included. This rulemaking removes obsolete regulatory text that is no longer impacting regulated entities and will not impose costs or benefits. It is expected to result in some cost savings by reducing the amount of time necessary to become familiar with the FMCSRs. FMCSA considers any realized cost savings to be de minimis. Consequently, I certify that this action will not have a significant economic impact on a substantial number of small entities.

E. Assistance for Small Entities

In accordance with section 213(a) of the Small Business Regulatory Enforcement Fairness Act of 1996 (Pub. L. 104-121, 110 Stat. 857), FMCSA wants to assist small entities in understanding this rule so they can better evaluate its effects on themselves and participate in the rulemaking initiative. If the rule will affect your small business, organization, or governmental jurisdiction and you have questions concerning its provisions or options for compliance, please consult the person listed under FOR FURTHER INFORMATION CONTACT.

Small businesses may send comments on the actions of Federal employees who enforce or otherwise determine compliance with Federal regulations to the Small Business Administration's Small Business and Agriculture Regulatory Enforcement Ombudsman (Office of the National Ombudsman, see https://www.sba.gov/about-sba/oversight-advocacy/office-national-ombudsman) and the Regional Small Business Regulatory Fairness Boards. The Ombudsman evaluates these actions annually and rates each agency's responsiveness to small business. If you wish to comment on actions by employees of FMCSA, call 1-888-REG-FAIR (1-888-734-3247). DOT has a policy regarding the rights of small entities to regulatory enforcement fairness and an explicit policy against retaliation for exercising these rights.

F. Unfunded Mandates Reform Act of 1995

The Unfunded Mandates Reform Act of 1995 (2 U.S.C. 1531-1538) (UMRA) requires Federal agencies to assess the effects of their discretionary regulatory actions. The Act addresses actions that may result in the expenditure by a State, local, or Tribal government, in the aggregate, or by the private sector of $206 million (which is the value equivalent of $100 million in 1995, adjusted for inflation to 2024 levels) or more in any 1 year. Because this rule will not result in such an expenditure, a written statement is not required.

G. Paperwork Reduction Act

This final rule contains no new information collection requirements under the Paperwork Reduction Act of 1995 (44 U.S.C. 3501-3520).

H. E.O. 13132 (Federalism)

A rule has federalism implications under section 1(a) of E.O. 13132 if it has “substantial direct effects on the States, on the relationship between the national government and the States, or on the distribution of power and responsibilities among the various levels of government.”

FMCSA has determined that this rule will not have substantial direct costs on or for States, nor will it limit the policymaking discretion of States. Nothing in this document preempts any State law or regulation. Therefore, this rule does not have sufficient federalism implications to warrant the preparation of a Federalism Impact Statement.

I. Privacy

The Consolidated Appropriations Act, 2005,⁶ requires the Agency to assess the privacy impact of a regulation that will affect the privacy of individuals. This final rule will not require the collection of personally identifiable information (PII).

⁶ Public Law 108-447, 118 Stat. 2809, 3268, note following 5 U.S.C. 552a (Dec. 4, 2014).

The Privacy Act (5 U.S.C. 552a) applies only to Federal agencies and any non-Federal agency that receives records contained in a system of records from a Federal agency for use in a matching program.

The E-Government Act of 2002,⁷ requires Federal agencies to conduct a PIA for new or substantially changed technology that collects, maintains, or disseminates information in an identifiable form. No new or substantially changed technology would collect, maintain, or disseminate information as a result of this rule. Accordingly, FMCSA has not conducted a PIA.

⁷ Public Law 107-347, sec. 208, 116 Stat. 2899, 2921 (Dec. 17, 2002).

In addition, the Agency will complete a Privacy Threshold Assessment (PTA) to evaluate the risks and effects the rulemaking might have on collecting, storing, and sharing personally identifiable information. The PTA will be submitted to FMCSA's Privacy Officer for review and preliminary adjudication and to DOT's Privacy Officer for review and final adjudication.

J. E.O. 13175 (Indian Tribal Governments)

This rule does not have Tribal implications under E.O. 13175, Consultation and Coordination with Indian Tribal Governments, because it does not have a substantial direct effect on one or more Indian Tribes, on the relationship between the Federal Government and Indian Tribes, or on the distribution of power and responsibilities between the Federal Government and Indian Tribes.

K. National Environmental Policy Act of 1969

FMCSA analyzed this rule pursuant to the National Environmental Policy Act of 1969 (42 U.S.C. 4321 et seq.) (NEPA). The Agency believes this rule will not have a reasonably foreseeable significant effect on the quality of the human environment.

This conclusion stems from the fact that the existing regulation is outdated and beyond the scope of FMCSA's statutory authority, rendering it practically unenforceable. In effect, this action modernizes the CFR to accurately reflect current and long-standing practices. Consequently, the rescission of this regulation will retain the existing environmental baseline, resulting in no new environmental impacts.

Purpose and Need for Action

The purpose of this final rule is to remove an outdated regulation, 49 CFR part 356, as it no longer accurately reflects the Agency's current statutory authority. Under 49 U.S.C. 13902, FMCSA is not authorized to include routing limitations when granting operating authority to U.S. domiciled motor carriers; therefore, the regulations in part 356 are obsolete.

Alternatives

No Action Alternative/Current Rule

The current regulation prescribes routing limitations that are beyond the scope of FMCSA's statutory authority. Consequently, the current regulation has not been enforced. This rule would therefore retain the existing environmental baseline to the no action alternative.

Final Action/Preferred Alternative

This final rule will remove the obsolete regulation thereby streamlining the CFR and eliminating a source of possible confusion for stakeholders.

Affected Environment

There is no affected environment or environmental consequences as the current regulation is outdated and cannot be enforced. This final rule will retain the same environmental baseline.

Environmental Consequences

There are no environmental consequences because the current regulation is outdated and cannot be enforced.

List of Preparers and Reviewers

The following persons participated in the preparation of this EA:

Brian Dahlin, Chief, Regulatory Evaluation Division

Education: M.A. Economics (Duke University), B.S. Economics (University of Minnesota).

Experience: Over 20 years as a labor and transportation economist.

Sean Reid, Economist, Regulatory Evaluation Division

Education: M.A. Economics (Georgia State University), B.B.A. Economics (Georgia Southern University).

Experience: 5 years as an economist in Federal government.

Kathryn Sinniger, Chief Counsel, Division of Regulations and Legislation

Education: Juris Doctorate (William & Mary School of Law), B.A. Politics (Catholic University of America).

Experience: Over 25 years as regulatory attorney in Federal government.

List of Agencies and Persons Consulted

In the course of completing the NEPA compliance process for this rulemaking, FMCSA consulted with technical experts within the Agency familiar with the potential environmental consequences that could result from implementing the Final Action.

L. Rulemaking Summary

In accordance with 5 U.S.C. 553(b)(4), a summary of this rule may be found at regulations.gov, under the docket number.

List of Subjects in 49 CFR Part 356

Administrative practice and procedure, Freight forwarders, Highways and roads, Motor carriers.

PART 356—[REMOVED AND RESERVED]

Accordingly, under the authority in 49 U.S.C. 13902 and as discussed in the preamble, FMCSA removes and reserves 49 CFR part 356.

Issued under authority delegated in 49 CFR 1.87.
Sue Lawless,
Assistant Administrator.

[FR Doc. 2025-09709 Filed 5-27-25; 4:15 pm]

BILLING CODE 4910-EX-P